DEPARTMENT OF THE INTERIOR

Bureau of Land Management

[LLCA930000; L14300000; FM0000; CACA 25594, CACA 31926 and CACA 30070]

Notice of Intent To Prepare a Supplemental Environmental Impact Statement for the Eagle Mountain Land Exchange, Riverside County, CA

AGENCY: Bureau of Land Management, Interior.

ACTION: Notice of Intent.

SUMMARY: In compliance with the National Environmental Policy Act of 1969, as amended (NEPA), the Federal Land Policy and Management Act of 1976 (FLPMA), and in response to the May 10, 2011, Order of the United States District Court for the Central District of California, the Bureau of Land Management (BLM), Palm Springs South Coast Field Office, Palm Springs, California, will prepare a Supplemental Environmental Impact Statement (EIS) addressing deficiencies identified by the 9th U.S. Circuit Court of Appeals in the 1997 EIS for the Eagle Mountain Landfill and Recycling Center Project.

DATES: This notice initiates the public scoping process for the Supplemental EIS. Comments on issues may be submitted in writing until September 15, 2014. The date(s) and location(s) of any scoping meetings will be announced at least 15 days in advance through the local news media and the BLM Web site at: www.blm.gov/ca/st/en/fo/palmsprings.html. In order to be included in the Draft Supplemental EIS, all comments must be received prior to the close of the scoping period or 15 days after the last public meeting, whichever is later. The BLM will provide additional opportunities for public participation upon publication of the Draft Supplemental EIS.

ADDRESSES: You may submit comments related to the Supplemental EIS by any of the following methods:

• Web site: www.blm.gov/ca/st/en/fo/palmsprings.html

• Email: blm_ca_palm_springs_fo_email@blm.gov

• Fax: 760-833-7199

• Mail: Palm Springs South Coast Field Office, Attn: John Kalish, 1201 Bird Center Drive, Palm Springs, CA 92262

Documents pertinent to this notice may be examined at this address during regular business hours (8:00 a.m. to 4:30 p.m.) Monday through Friday, except holidays.

FOR FURTHER INFORMATION CONTACT: Thomas Gey, Realty Specialist, BLM California Desert District Office, telephone 951-697-5352; address 22835 Calle San Juan De Los Lagos, Moreno Valley, CA 92553-9046; email tgey@blm.gov.

Contact Mr. Gey to have your name added to our mailing list. Persons who use a telecommunications device for the deaf (TDD) may call the Federal Information Relay Service (FIRS) at 1-800-877-8339 to contact Mr. Gey during normal business hours. The FIRS is available 24 hours a day, 7 days a week, to leave a message or question for Mr. Gey. You will receive a reply during normal business hours.

SUPPLEMENTARY INFORMATION: In 1989, Kaiser Eagle Mountain, Inc. (Kaiser) and Mine Reclamation Corporation (MRC) proposed to develop the Eagle Mountain Landfill and Recycling Project in the Eagle Mountains in Riverside County, California. The landfill project, which has since been abandoned, would have involved a Class III nonhazardous solid waste landfill in and around the Eagle Mountain Mine and the renovation of the nearby Eagle Mountain townsite to support landfill operations. The proposed landfill, support facilities, and open space buffer areas would have required approximately 4,654 acres of land, including private land owned by Kaiser, as well as approximately 3,481 acres of scattered parcels of BLM-managed public lands within the project area.

To facilitate the landfill project, Kaiser proposed in 1989 a land exchange to acquire the public lands in the project area and acquire the federal reversionary interest in the Eagle Mountain townsite. Additionally, Kaiser applied for two rights-of-way (ROW) to use an existing railroad to transport solid waste to the landfill, as well as an existing road for purposes associated with the landfill project. The proposed land exchange, which was completed in 1999, involved the conveyance of 3,481 acres of public land to Kaiser, much of which was previously disturbed, unpatented mining and mill site claims held by Kaiser. In exchange, in a deed recorded in Riverside County on October 13, 1999, Kaiser conveyed 2,846 acres of land into public ownership, which included habitat for the desert tortoise (a federally threatened species) and habitat supporting the desert pupfish, and the Yuma clapper rail (a federally endangered species). Kaiser also requested that the BLM release any remaining interests of the United States (U.S.) in the Eagle Mountain townsite.

The existing railroad was previously authorized in 1955 under Private Law 790 for transporting iron ore from the Eagle Mountain Mine to Ferrum Junction, just northeast of the Salton Sea. The Eagle Mountain townsite was conveyed to Kaiser Steel Corporation in 1955 pursuant to Private Law 790, but the U.S. retained a reversionary interest in the land. Kaiser also sought, and subsequently received, approvals for the landfill project from Riverside County for a zoning change, specific plan and solid waste facilties permit.

The BLM and Riverside County prepared a joint EIS/Environmental Impact Report (EIR), which was released for public review and comment in 1992. The BLM issued a Record of Decision (ROD) approving the exchange and associated ROWs on October 20, 1993.

Appeals were filed with the Interior Board of Land Appeals (IBLA) and three lawsuits were filed in State court in 1992 challenging the adequacy of the EIR under the California Environmental Quality Act (CEQA). In September 1994, a State court found the 1992 EIR to be inadequate and required further environmental review by Riverside County. The BLM subsequently requested the IBLA remand the case back to the BLM to allow preparation of a new joint EIS/EIR.

After circulating a new draft EIS/EIR on the Project, the BLM and Riverside County released a new final joint EIS/EIR in January of 1997. In December of 1999, after legal challenges to the validity of the EIR under State law were ultimately unsuccessful, the Riverside County Department of Environmental Health and the California Integrated Waste Management Board approved final permits for the landfill project.

The BLM approved the land exchange in a ROD dated September 25, 1997, and issued ROWs over public lands in 1998. Several parties protested the BLM's decision and filed appeals with the IBLA.

On October 13, 1999, after the IBLA affirmed the BLM's EIS and ROD approving the exchange, the BLM patented approximately 3,481 acres of public land to Kaiser and conveyed the federal reversionary interest in the Eagle Mountain townsite to Kaiser.

Kaiser reciprocated by issuing to the U.S. a grant deed for 2,846 acres of its private lands and a payment of $20,100, representing the difference between the appraised value of the exchange lands.

Subsequent litigation over the BLM's 1997 decision to approve the land exchange resulted in a 2005 decision by the United States District Court for the Central District of California (District Court) that certain portions of the analysis forming the basis for the BLM's approval of the land exchange (EIS and ROD) were flawed under NEPA and FLPMA.

The District Court found the BLM's appraisal was flawed; the BLM's determination that the exchange was in the public interest was not adequately supported; the EIS was flawed because the purpose, need, and range of alternatives were too narrow; and the analysis of the impacts of the Project on bighorn sheep and eutrophication was inadequate.

The District Court set aside the land exchange pending the BLM preparation of a new EIS and ROD consistent with the Court's Order. Subsequent appeals resulted in a May 19, 2010, opinion by the 9th U.S. Circuit Court of Appeals, which partially reversed and partially affirmed the District Court's determinations. The 9th Ciruit found the determination that the exchange was in the public interest was adequately supported and the EIS adequately addressed the impacts of the Project on bighorn sheep and reversed the District Court's rulings on these issues. The 9th Circuit affirmed the District Court's rulings that the appraisal was flawed and the EIS was inadequate because the purpose and need and range of alternatives were too narrow and the analysis of eutrophication was inadequate.

The 9th Circuit's opinion was followed by a May 10, 2011, Order by the District Court setting aside the ROWs the BLM granted to Kaiser in 1998 and the land exchange the BLM completed with Kaiser in 1999, pending preparation by the BLM of a new ROD and EIS consistent with the 9th Circuit's May 19, 2010, opinion. The BLM intends to prepare a Supplemental EIS, which, along with any new ROD, will be provided to the District Court, which retained jurisdiction to resolve legal challenges to any new ROD and EIS.

The BLM had delayed preparing a new ROD and Supplemental EIS pending the Sanitation Districts of Los Angeles County (Sanitation Districts) acquisition of Kaiser's interest in the Eagle Mountain Landfill Project. However, on May 22, 2013, the Sanitation Districts announced that they would no longer pursue acquisition of the Eagle Mountain Landfill Project, which effectively ended the viability of the landfill project. On December 19, 2013, the District Court issued an order directing the parties in the litigation to commence settlement discussions. No settlement has been reached; therefore, the BLM intends to prepare a Supplemental EIS. Although public scoping is not required for a Supplemental EIS, the BLM believes public scoping is appropriate in this case. The purpose of the public scoping process is to determine relevant issues that will influence the scope of the environmental analysis and alternatives, identify reasonably foreseeable uses of the lands involved, and guide the process for developing the Supplemental EIS. Because the landfill project has been abandoned, the BLM believes no additional analysis of the impacts of eutrophication is necessary in the Supplemental EIS.

The Supplemental EIS will include any new information not available when the January 1997 EIS for the now defunct Eagle Mountain Landfill and Recycling Project was completed. To the extent determined through scoping, this land exchange in the Eagle Mountain area may present opportunities to advance landscape-scale conservation goals for the BLM and National Park Service (NPS). The area was removed from the Park (then a National Monument) in 1950 to further the national objective of mining and development of the steel industry. NPS, serving as a cooperating agency in the NEPA process, will assist the BLM during scoping to assess landscape-scale conservation opportunities for lands that support habitat, historic, cultural and other conservation values. Concurrent with the scoping process, NPS plans to evaluate opportunities for addition to Joshua Tree National Park. The following preliminary revised purpose and need for Eagle Mountain Land Exchange reflects the fact that the landfill project has been abandoned. The preliminary revised purpose and need is to:

1. Protect important habitat and conservation values, including critical desert tortoise habitat, habitat for the Yuma clapper rail and desert pupfish, and critical upland habitat that is important for maintaining ecosystem processes and resources conserved by Joshua Tree National Park and other conservation partners;

2. Ensure the permanent conservation of formerly private inholdings in the Chuckwalla Desert Wildlife Management Area, the Dos Palmas Area of Critical Environmental Concern, and conservation areas designated in the Coachella Valley Multiple Species Habitat Conservation Plan;

3. Reduce the BLM's costs associated with managing lands that generally lack legal and physical access, are encumbered by mining claims, and which have been included in mining operations associated with the Eagle Mountain Mine;

4. Divest the BLM of the federal reversionary interest in the Eagle Mountain townsite, which is not suitable for management by the BLM; and

5. Facilitate adaptive re-use of the Eagle Mountain townsite, unencumbered by the federal reversionary interest, including potentially preserving this area for any cultural and historic values.

The BLM will use NEPA public participation requirements to assist the agency in satisfying the public involvement requirements under Section 106 of the National Historic Preservation Act (NHPA) (16 U.S.C. 470(f)) pursuant to 36 CFR 800.2(d)(3). New information about historic and cultural resources in the project area will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the Eagle Mountain Land Exchange are invited to participate in the scoping process and, if eligible, may request or be requested by the BLM to participate in the development of the environmental analysis as a cooperating agency.

Before including your address, phone number, email address, or other personal identifying information in your comment, be advised that your entire comment—including your personal identifying information—may be made publicly available at any time. While you can ask us in your comment to withhold from public review your personal indentifying information, we cannot guarantee that we will be able to do so.

Authority: 40 CFR 1501.7.

John Kalish,
Field Manager, South Coast Field Office.

[FR Doc. 2014-19239 Filed 8-13-14; 8:45 am]

BILLING CODE 4310-40-P